DEPARTMENT OF LABOR

Employment and Training Administration

[SGA/DFA-PY-08-09]

Solicitation for Grant Applications (SGA)

AGENCY: Employment and Training Administration (ETA), Labor.

ACTION: Notice: Reopening of period to submit applications for SGA/DFA-PY-08-09.

SUMMARY: The Employment and Training Administration published a document in the Federal Register on November 17, 2008, announcing the availability of funds and issuing a solicitation for grant applications (SGA) for Local Young Offender Planning Grants, State/Local Juvenile Offender Implementation Grants and an Intermediary Juvenile Reentry Grant 73 FR 67884 (Nov. 17, 2008). This notice reopens the period during which applications for such funds may be submitted.

DATES: Key Dates: The new closing date for receipt of applications under this announcement is January 29, 2009.

FOR FURTHER INFORMATION CONTACT: B. Jai Johnson, Grant Specialist, Division of Federal Assistance, at (202) 693-3296.

SUPPLEMENTARY INFORMATION: Date Extension: In the Federal Register of November 17, we established a December 18, 2008 closing date for applications under this SGA. It subsequently came to our attention that we mistakenly referred to a different due date for electronically submitted applications under the heading, “Part IV—Application and Submission Information, Section C, Submission Date, Times, and Addresses” on page 67888. We attempted to correct this mistake by publishing a separate notice in the December 1, 2008, Federal Register to clarify that the December 18 due date applied to all applications, including those submitted electronically (73 FR 72853).

However, we remain concerned that the December 1 notice may not have resolved confusion over the applicable deadline. Therefore we are reopening for two weeks the period during which we will accept applications until January 29, 2009.

Submission instructions: Applications must be submitted in accordance with instructions contained in Part IV of the SGA by the date specified above. All other terms, conditions, criteria and provisions of the SGA remain in effect (including the correction regarding the goal of the intermediary reentry grant in Part I as provided in the December 1 Federal Register Notice).

Other Information: Applicants that have applied before for this solicitation are not required to resubmit their application. However, such applicants have the option to withdraw their proposal and re-submit if they so choose. If you choose to re-submit, you must notify the Grant Officer by E-mail (Magruder.Chari@dol.gov) stating that you wish to withdraw the initial proposal and resubmit. Once withdrawn the initial proposal will not be considered and failure to resubmit or a late resubmittal will disqualify the applicant from consideration.

For tracking purposes, resubmitted or new first time proposals must use the following on the cover sheet: “SGA-DFA-PY 08-09A.”

Signed at Washington, DC, this 9th of January 2009.
Chari Magruder,
Grant Officer.

[FR Doc. E9-650 Filed 1-14-09; 8:45 am]

BILLING CODE 4510-FT-P